DEPARTMENT OF DEFENSE

Department of the Navy

Notice of Intent To Grant Exclusive License; Superior Armor Systems, Inc.

AGENCY: Department of the Navy, DOD.

ACTION: Notice.

SUMMARY: The Department of the Navy hereby gives notice of its intent to grant to Superior Armor Systems, Inc. a revocable, nonassignable, exclusive license to practice in all fields of use, the Government-owned invention described in U.S. Patent Application No. 12/312,150 A1: Body Armor of Ceramic Ball Embedded Polymer and any continuations, divisionals or re-issues thereof.

DATES: Anyone wishing to object to the grant of this license must file written objections along with supporting evidence, if any, not later than February 27, 2017.

ADDRESSES: Written objections are to be filed with the Naval Surface Warfare Center, Dahlgren Division, Technical Partnering Office, Code 00T1, 17632 Dahlgren Road, Suite 201, Dahlgren, Virginia 22448-5154.

FOR FURTHER INFORMATION CONTACT: Lorraine Harting, Domestic Partnering Outreach Lead, Technical Partnering Office, 17632 Dahlgren Road, Suite 201, Dahlgren, Virginia 22448-5154. Due to U.S. Postal delays, please fax 540-653-6416, email: lorraine.harting@navy.mil or use courier delivery to expedite response.

Authority: 35 U.S.C. 207, 37 CFR part 404.

Dated: February 3, 2017.
A.M. Nichols,
Lieutenant Commander, Judge Advocate General's Corps, U.S. Navy, Federal Register Liaison Officer.

[FR Doc. 2017-02767 Filed 2-9-17; 8:45 am]

BILLING CODE 3810-FF-P